DEPARTMENT OF COMMERCE

International Trade Administration

[A-570-890]

Wooden Bedroom Furniture From the People's Republic of China: Notice of Court Decision Not in Harmony

AGENCY: Import Administration, International Trade Administration, Department of Commerce.

DATES: Effective Date: February 2, 2009.

SUMMARY: On January 7, 2009, the United States Court of International Trade (“CIT” or the “Court”) sustained the final remand determination made by the Department of Commerce (“Department”) pursuant to the Court's remands of the amended final determination of the less than fair value investigation of wooden bedroom furniture (“WBF”) from the People's Republic of China (“PRC”). See Final Results of Redetermination Pursuant to Court Remand, July 15, 2008 (“Remand III”); Dorbest Limited, et al. v. United States, Slip Op. 09-02 (CIT January 7, 2009) (“Dorbest III”). This case arises out of the Department's final determination of sales at less than fair value: Wooden Bedroom Furniture from the PRC, 69 FR 67313 (November 17, 2004), as amended, 70 FR 329 (January 5, 2005) (“Final Determination”). The final judgment in this case was not in harmony with the Department's Final Determination.

FOR FURTHER INFORMATION CONTACT: Robert Bolling, AD/CVD Operations, Office 8, Import Administration, International Trade Administration, U.S. Department of Commerce, 14th Street and Constitution Avenue, NW., Washington, DC 20230; telephone: (202) 482-3434.

SUPPLEMENTARY INFORMATION: On January 5, 2005, the Department published its amended final determination and antidumping duty order. See Final Determination. On August 1, 2005, the Department issued its voluntary remand redetermination wherein it modified the value of labor. See Wooden Bedroom Furniture from the PRC: Final Results of Redetermination Pursuant to the Court Remand Orders, (August 1, 2005) (“Remand I”). On October 31, 2006, the court remanded the Department's Final Determination for further administrative proceedings. See Dorbest Limited, et al. v. United States, 462 F.Supp. 2d 1262 (CIT 2006) (“Dorbest I”). The Department also requested and the Court granted voluntary remands concerning the following aspects of the margin calculation for Rui Feng Woodwork Co., Ltd., Rui Feng Lumber Development Co., Ltd. and Dorbest Limited (collectively, “Dorbest”): The treatment of spare parts; the elimination of metal parts and canopies from Dorbest's calculation; and the valuation of raw material expenses. On May 25, 2007, the Department issued its final results of redetermination. Id.; see also 462 F.Supp 2d 1262 (CIT 2006) Final Results of Redetermination Pursuant to Court Remand, Court No. 05-00003, May 25, 2007 (“Remand II”). In Remand II, the Department, pursuant to the Court's opinion and order, modified certain aspects of the Final Determination as follows: (1) Revised the labor rate for Dorbest; (2) recalculated Dorbest's resin value; (3) recalculated the mirror value; (4) revised the selection of surrogate companies, by excluding Evergreen International Ltd. (“Evergreen”) and Jayaraja Furniture (“Jayayraja”) from the surrogate financial ratio calculations; (5) eliminated the spare parts discount adjustment to Dorbest's U.S. price; (6) removed non-scope metal parts from Dorbest's normal value calculation; (7) treated certain of Dorbest's incoming raw materials as direct material costs rather than as a deduction from U.S. prices; and (8) recalculated the separate rate, based on the remanded components of the margin calculation challenged by the litigants.

On February 27, 2008, the Court remanded the Department's Final Determination for further administrative proceedings. See Dorbest Limited, et al. v. United States, Consol. Court No. 05-cv-00003, Slip Op. 08-24 (February 27, 2008) (“Dorbest et al. v. United States”) (“Dorbest II”). The Department requested, and the Court granted, a voluntary remand on the valuation of Dorbest's cardboard. Id.

On July 15, 2008, the Department issued its final results of redetermination pursuant to Dorbest II. See Final Results of Redetermination Pursuant to Court Remand, July 15, 2008 (“Remand III”). In Remand III, the Department made the following modifications to its Final Determination: (1) Recalculated Dorbest's cardboard value; (2) revised the selection of surrogate companies by excluding Fusion Design Private Ltd. (“Fusion Design”), DnD's Fine Furniture Pvt., Ltd. (“DnD”), Nizamuddin Furniture Private Ltd. (“Nizamuddin”), and Swaran Furniture Ltd. (“Swaran”) from the surrogate ratio calculations; and (3) recalculated the separate rate pursuant to the Court's instructions.

On January 7, 2009, the Court sustained Remand III. The revised antidumping duty margins are as follows: For Dorbest is 2.92 percent; Lung Dong Furniture Co., Ltd. and Dongguan Dong He Furniture Co., Ltd. is 2.71 percent; Shing Mark Enterprise Co., Ltd., is 5.20 percent; Starcorp, is 17.50 percent; and the revised margin for the parties that received separate rates is 6.78 percent.

Timken Notice

In its decision in Timken, the Court of Appeals for the Federal Circuit (“CAFC”) held that, pursuant to section 516A(e) of the Tariff Act of 1930, as amended (“the Act”), the Department must publish a notice of a court decision that is not “in harmony” with a Department determination and must suspend liquidation of entries pending a “conclusive” court decision. See Timken Co. v. United States, 893 F.2d 337 (Fed. Cir. 1990) (“Timken”). The CIT's decision in Dorbest III on January 7, 2009, constitutes a final decision of that court that is not in harmony with the Department's final determination of sales at less than fair value. This notice is published in fulfillment of the publication requirements of Timken. Accordingly, the Department will continue the suspension of liquidation of enjoined entries pending the exhaustion of all appellate rights. In the event the CIT's ruling is not appealed, or if appealed, upheld by the CAFC, the Department will publish an amended final determination.

This notice is issued and published in accordance with section 516A(c)(1) of the Act.

Dated: January 26, 2009.
Ronald Lorentzen,
Acting Assistant Secretary for Import Administration.

[FR Doc. E9-2182 Filed 1-30-09; 8:45 am]

BILLING CODE 3510-DS-P